DEPARTMENT OF HOMELAND SECURITY

U.S. Customs and Border Protection

Accreditation and Approval of SGS North America, Inc. (Houston, TX), as a Commercial Gauger and Laboratory

AGENCY: U.S. Customs and Border Protection, Department of Homeland Security.

ACTION: Notice of accreditation and approval of SGS North America, Inc., as a commercial gauger and laboratory.

SUMMARY: Notice is hereby given, pursuant to CBP regulations, that SGS North America, Inc. (Houston, TX), has been approved to gauge and accredited to test petroleum and petroleum products for customs purposes for the next three years as of July 11, 2019.

DATES: SGS North America, Inc., was accredited and approved as a commercial gauger and laboratory as of July 11, 2019. The next triennial inspection date will be scheduled for July 2022.

FOR FURTHER INFORMATION CONTACT: Mr. Stephen Cassata, Laboratories and Scientific Services, U.S. Customs and Border Protection, 1300 Pennsylvania Avenue NW, Suite 1500N, Washington, DC 20229, tel. 202-344-1060.

SUPPLEMENTARY INFORMATION: Notice is hereby given pursuant to 19 CFR 151.12 and 19 CFR 151.13, that SGS North America, Inc., 15602 Jacintoport Blvd., Houston, TX 77015, has been approved to gauge and accredited to test petroleum and petroleum products for customs purposes, in accordance with the provisions of 19 CFR 151.12 and 19 CFR 151.13. SGS North America, Inc., is approved for the following gauging procedures for petroleum and certain petroleum products set forth by the American Petroleum Institute (API):

API chapters | Title
3 | Tank gauging.
7 | Temperature Determination.
8 | Sampling.
12 | Calculations.
14 | Natural Gas Fluids Measurement.
17 | Maritime Measurements.

SGS North America, Inc., is accredited for the following laboratory analysis procedures and methods for petroleum and certain petroleum products set forth by the U.S. Customs and Border Protection Laboratory Methods (CBPL) and American Society for Testing and Materials (ASTM):

CBPL No. | Method | Title
27-11 | ASTM D 445 | Standard test method for kinematic viscosity of transparent and opaque liquids (and calculations of dynamic viscosity).
27-48 | ASTM D 4052 | Standard test method for density and relative density of liquids by digital density meter.
27-50 | ASTM D 93 | Standard test method for flash point by Penske-Martens Closed Cup Tester.
N/A | ASTM D 92 | Standard Test Method for Flash and Fire Points by Cleveland Open Cup Tester.

Anyone wishing to employ this entity to conduct laboratory analyses and gauger services should request and receive written assurances from the entity that it is accredited or approved by the U.S. Customs and Border Protection to conduct the specific test or gauger service requested. Alternatively, inquiries regarding the specific test or gauger service this entity is accredited or approved to perform may be directed to the U.S. Customs and Border Protection by calling (202) 344-1060. The inquiry may also be sent to cbpgaugerslabs@cbp.dhs.gov. Please reference the website listed below for a complete listing of CBP approved gaugers and accredited laboratories: http://www.cbp.gov/about/labs-scientific/commercial-gaugers-and-laboratories.

Dated: April 30, 2020.
Larry D. Fluty,
Executive Director, Laboratories and Scientific Services.

[FR Doc. 2020-10839 Filed 5-19-20; 8:45 am]

BILLING CODE 9111-14-P